SMALL BUSINESS ADMINISTRATION

[Declaration of Disaster #3272, Amdt. #4]

State of Wisconsin

In accordance with a notice from the Federal Emergency Management Agency, dated August 9, 2000, the above-numbered Declaration is hereby amended to include Juneau County, Wisconsin as a disaster area due to damages caused by severe storms, tornadoes, and flooding beginning on May 26, 2000 and continuing through July 19, 2000.

In addition, applications for economic injury loans from small businesses located in the contiguous counties of Jackson and Wood in the State of Wisconsin may be filed until the specified date at the previously designated location. Any counties contiguous to the above-named primary county and not listed herein have been previously declared.

All other information remains the same, i.e., the deadline for filing applications for physical damage is September 9, 2000 and for economic injury the deadline is April 11, 2001.

(Catalog of Federal Domestic Assistance Program Nos. 59002 and 59008.)

Dated: August 15, 2000.
Herbert L. Mitchell,
Acting Associate Administrator for Disaster Assistance.

[FR Doc. 00-21620 Filed 8-23-00; 8:45 am]

BILLING CODE 8025-01-P